DEPARTMENT OF ENERGY

Federal Energy Regulatory Commission

Combined Notice of Filings

Take notice that the Commission has received the following Natural Gas Pipeline Rate and Refund Report filings:

Filings Instituting Proceedings

Docket Numbers: RP24-984-000.

Applicants: Chesapeake Energy Marketing, L.L.C., SWN Energy Services Company, LLC.

Description: Joint Petition for Temporary Waivers of Capacity Release Regulations et al. of Chesapeake Energy Marketing, L.L.C. et al.

Filed Date: 8/20/24.

Accession Number: 20240820-5144.

Comment Date: 5 p.m. ET 9/9/24.

Docket Numbers: RP24-1033-000.

Applicants: ETC Tiger Pipeline, LLC.

Description: § 4(d) Rate Filing: Updating Tariff for Multi-Party Contracts to be effective 9/30/2024.

Filed Date: 8/30/24.

Accession Number: 20240830-5152.

Comment Date: 5 p.m. ET 9/11/24.

Docket Numbers: RP24-1034-000.

Applicants: TransColorado Gas Transmission Company LLC.

Description: § 4(d) Rate Filing: TC Quarterly FL&U Update August 2024 to be effective 10/1/2024.

Filed Date: 8/30/24.

Accession Number: 20240830-5155.

Comment Date: 5 p.m. ET 9/11/24.

Docket Numbers: RP24-1035-000.

Applicants: Transcontinental Gas Pipe Line Company, LLC.

Description: § 4(d) Rate Filing: Transco RP24—General Rate Case Filing to be effective 10/1/2024.

Filed Date: 8/30/24.

Accession Number: 20240830-5156.

Comment Date: 5 p.m. ET 9/11/24.

Docket Numbers: RP24-1036-000.

Applicants: Northern Natural Gas Company.

Description: Tariff Amendment: 20240830 Cancel Tariffs Vol 1 and Vol 1A to be effective 9/30/2024.

Filed Date: 8/30/24.

Accession Number: 20240830-5209.

Comment Date: 5 p.m. ET 9/11/24.

Docket Numbers: RP24-1037-000.

Applicants: Cameron Interstate Pipeline, LLC.

Description: § 4(d) Rate Filing: Filing of Negotiated Rate, Non-Conforming Rate FT Agreement to be effective 10/1/2024.

Filed Date: 8/30/24.

Accession Number: 20240830-5216.

Comment Date: 5 p.m. ET 9/11/24.

Docket Numbers: RP24-1038-000.

Applicants: TransCameron Pipeline, LLC.

Description: § 4(d) Rate Filing: Normal filing Aug 2024 to be effective 10/1/2024.

Filed Date: 8/30/24.

Accession Number: 20240830-5243.

Comment Date: 5 p.m. ET 9/11/24.

Docket Numbers: RP24-1039-000.

Applicants: Colorado Interstate Gas Company, L.L.C.

Description: § 4(d) Rate Filing: CIG Annual Fuel and LUF Filing to be effective 10/1/2024.

Filed Date: 8/30/24.

Accession Number: 20240830-5288.

Comment Date: 5 p.m. ET 9/11/24.

Docket Numbers: RP24-1040-000.

Applicants: Equitrans, L.P.

Description: § 4(d) Rate Filing: Remove Expired Negotiated Rate Agreement—9/1/2024 to be effective 10/3/2024.

Filed Date: 9/3/24.

Accession Number: 20240903-5032.

Comment Date: 5 p.m. ET 9/16/24.

Docket Numbers: RP24-1041-000.

Applicants: Mountain Valley Pipeline, LLC.

Description: § 4(d) Rate Filing: Negotiated Rate Capacity Release Agreements—9/1/2024 to be effective 9/1/2024.

Filed Date: 9/3/24.

Accession Number: 20240903-5040.

Comment Date: 5 p.m. ET 9/16/24.

Docket Numbers: RP24-1042-000.

Applicants: Equitrans, L.P.

Description: § 4(d) Rate Filing: Negotiated Rate Capacity Release Agreements—9/1/2024 to be effective 9/1/2024.

Filed Date: 9/3/24.

Accession Number: 20240903-5074.

Comment Date: 5 p.m. ET 9/16/24.

Docket Numbers: RP24-1043-000.

Applicants: Algonquin Gas Transmission, LLC.

Description: § 4(d) Rate Filing: Negotiated Rates—Yankee Gas to Emera eff 9-1-24 to be effective 9/1/2024.

Filed Date: 9/3/24.

Accession Number: 20240903-5107.

Comment Date: 5 p.m. ET 9/16/24.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

Filings in Existing Proceedings

Docket Numbers: RP24-815-001.

Applicants: Texas Eastern Transmission, LP.

Description: Compliance filing: TETLP 2024 Settlement Compliance Filing RP24-815-000 to be effective 10/1/2024.

Filed Date: 9/3/24.

Accession Number: 20240903-5096.

Comment Date: 5 p.m. ET 9/16/24.

Any person desiring to protest in any the above proceedings must file in accordance with Rule 211 of the Commission's Regulations (18 CFR 385.211) on or before 5:00 p.m. Eastern time on the specified comment date.

The filings are accessible in the Commission's eLibrary system (https://elibrary.ferc.gov/idmws/search/fercgensearch.asp) by querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: September 3, 2024.
Debbie-Anne A. Reese,
Acting Secretary.

[FR Doc. 2024-20309 Filed 9-9-24; 8:45 am]

BILLING CODE 6717-01-P